DEPARTMENT OF HOMELAND SECURITY

Coast Guard

33 CFR Part 117

[Docket No. USCG-2011-0991]

Drawbridge Operation Regulations; Long Island, New York Inland Waterway From East Rockaway Inlet to Shinnecock Canal, NY

AGENCY: Coast Guard, DHS.

ACTION: Notice of temporary deviation from regulations.

SUMMARY: The Commander, First Coast Guard District, has issued a temporary deviation from the regulation governing the operation of the Captree State Parkway Bridge at mile 30.7, across the State Boat Channel at Captree Island, New York. The deviation is necessary to facilitate emergency bridge repairs as a result of a recent fire at the bridge. This deviation allows the bridge to open on a limited opening schedule to help facilitate necessary repairs.

DATES: This deviation is effective from October 28, 2011 through January 31, 2012.

ADDRESSES: Documents mentioned in this preamble as being available in the docket are part of docket USCG-2011-0991 and are available online at http://www.regulations.gov, inserting USCG-2011-0991 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, judy.k.leung-yee@uscg.mil, or telephone (212) 668-7165. If you have questions on viewing the docket, call Renee V. Wright, Program Manager, Docket Operations, telephone (202) 366-9826.

SUPPLEMENTARY INFORMATION: The Captree State Parkway Bridge, across the State Boat Channel at mile 30.7, at Captree Island, New York, has a vertical clearance in the closed position of 29 feet at mean high water and 30 feet at mean low water. The drawbridge operation regulations are listed at 33 CFR 117.799(i).

The waterway users are recreational vessels of various sizes. The bridge opened 7 times in both June and July, 3 openings in August, and 6 openings in September. During the winter months the bridge rarely opens since the recreational vessels that transit this waterway are normally in winter storage.

The owner of the bridge, New York State Department of Transportation, requested a temporary deviation from the regulations to help facilitate emergency repairs at the bridge as a result of a recent fire at the bridge on October 9, 2011.

Under this temporary deviation the Captree State Parkway Bridge shall operate as follows: from October 28, 2011 through January 31, 2012, the draw shall open every three hours between 8 a.m. and 5 p.m., after at least a two-hour advance notice is given by calling the number posted at the bridge, (631) 904-3050. Vessels that can pass under the bridge in the closed position may do so at any time.

The Coast Guard believes that this temporary deviation should meet the reasonable needs of navigation because the recreational users that normally use this bridge are recreational vessels that do not operate during the winter months when this deviation will be in effect.

In accordance with 33 CFR 117.35(e), the bridge must return to its regular operating schedule immediately at the end of the designated time period. This deviation from the operating regulations is authorized under 33 CFR 117.35.

Dated: October 24, 2011.
Gary Kassof,
Bridge Program Manager, First Coast Guard District.

[FR Doc. 2011-28446 Filed 11-2-11; 8:45 am]

BILLING CODE 9110-04-P